DEPARTMENT OF AGRICULTURE

Food Safety and Inspection Service

[Docket No. 02-009N]

Codex Alimentarius Commission: 17th Session of the Codex Committee on General Principles

AGENCY: Office of the Under Secretary for Food Safety, USDA.

ACTION: Notice of public meeting, request for comments.

SUMMARY: The Office of the Under Secretary for Food Safety, United States Department of Agriculture (USDA), and the Food And Drug Administration (FDA), are sponsoring a public meeting on March 26, 2002, to provide information and receive public comments on agenda items that will be discussed at the Codex Committee on General Principles (CCGP), which will be held in Paris, France, on April 15-19, 2002. The Under Secretary and FDA recognize the importance of providing interested parties the opportunity to obtain background information on the 17th Session of the General Principles Committee of the Codex Alimentarius Commission (Codex) and to address items on the Agenda for the 17th CCGP.

DATES: The public meeting is scheduled for Tuesday, March 26th, 2002, from 1:00 p.m. to 4:00 p.m.

ADDRESSES: The public meeting will be held in Room 107A, Jamie E. Whitten Building, 1400 Independence Ave, SW., Washington, DC. To receive copies of the documents referenced in the notice contact the FSIS Docket Clerk, U.S. Department of Agriculture, Food Safety and Inspection Service, Room 102, Cotton Annex, 300 12th Street, SW., Washington, DC 20250-3700. The documents are also accessible via the World Wide Web at the following address: http://www.codexalimentarius.net/ccgp17/gp02_01e.htm. If you have comments, please send an original and two copies to the FSIS Docket Room, Docket #02-009N. All comments submitted will be available for public inspection in the Docket Clerk's Office between 8:30 a.m. and 4:30 p.m., Monday through Friday.

FOR FURTHER INFORMATION CONTACT: Dr. F. Edward Scarbrough, U.S. Manager for Codex, U.S. Codex Office, FSIS, Room 4861, South Building, 1400 Independence Avenue SW., Washington, DC 20250, Phone: (202) 205-7760, Fax: (202) 720-3157. Persons requiring a sign language interpreter or other special accommodations should notify Dr. F. Edward Scarbrough at the above telephone number.

SUPPLEMENTARY INFORMATION:

Background

Codex was established in 1962 by two United Nations organizations, the Food and Agriculture Organization (FAO), and the World Health Organization (WHO). Codex is the major international organization for protecting the health and economic interests of consumers and encouraging fair international trade in food. Through adoption of food standards, codes of practice, and other guidelines developed by its committees, and by promoting their adoption and implementation by governments, Codex seeks to ensure that the world's food supply is sound, wholesome, free from adulteration, and correctly labeled. In the United States, USDA, FDA, and EPA manage and carry out U.S. Codex activities.

The Codex Committee on General Principles deals with such procedural and general matters as are referred to it by the Codex Alimentarius Commission. Such matters have included the establishment of the General Principles that define the purpose and scope of the Codex Alimentarius; the nature of Codex standards and the forms of acceptance by countries of Codex standards; the development of Guidelines for Codex Committees; the development of a mechanism for examining any economic impact statements submitted by governments concerning possible implications for their economies of some of the individual standards or some of the provisions thereof; and the establishment of a Code of Ethics for the International Trade in Food. The Committee is chaired by France.

Issues To Be Discussed at the Public Meeting

The provisional agenda items will be discussed during the public meeting:

1. Adoption of the Agenda.

2. Matters referred by the Codex Alimentarius Commission and other Codex Committees, including Traceability.

3. Risk Analysis

(a) Proposed Draft Working Principles for Risk Analysis

(b) The Application of Risk Analysis in the Elaboration of Codex Standards (prepared by India)

(c) Consideration of the development of working principles for risk analysis to be applied by governments

4. Proposed Draft Revised Code of Ethics for International Trade in Foods

5. Guidelines for Cooperation with International Intergovernmental Organizations

6. Membership in the Codex Alimentarius Commission of Regional Economic Integration Organizations

7. Other Business, Future Work

Each issue listed will be fully described in documents distributed, or to be distributed, by the French Secretariat at the 17th Session of CCGP. Members of the public may access or request copies of these documents (see ADDRESSES).

Public Meeting

At the March 26th public meeting, the agenda items will be described, discussed, and attendees will have the opportunity to pose questions and offer comments. Written comments may be offered at the meeting or sent to the FSIS Docket Room (see ADDRESSES). Written comments should state that they relate to activities of the 17th CCGP.

Additional Public Notification

Pursuant to Departmental Regulation 4300-4, “Civil Rights Impact Analysis,” dated September 22, 1993, FSIS has considered the potential civil rights impact of this notice on minorities, women, and persons with disabilities. Therefore, to better ensure that these groups and others are made aware of this meeting, FSIS will announce it and provide copies of the Federal Register publication in the FSIS Constituent Update.

The Agency provides a weekly FSIS Constituent Update, which is communicated via fax to over 300 organizations and individuals. In addition, the update is available on line through the FSIS web page located at http://www.fsis.usda.gov. The update is used to provide information regarding Agency policies, procedures, regulations, Federal Register Notices, FSIS public meetings, recalls and any other types of information that could affect or would be of interest to our constituents/stakeholders. The constituent fax list consists of industry, trade, and farm groups, consumer interest groups, allied health professionals, scientific professionals and other individuals that have requested to be included. Through these various channels, the Agency is able to provide information with a much broader, more diverse audience.

For more information and to be added to the constituent fax list, fax your request to the Office of Congressional and Public Affairs, at (202) 720-5704.

Done at Washington, DC on: March 21, 2002.
F. Edward Scarbrough,
U.S. Manager for Codex Alimentarius.

[FR Doc. 02-7469 Filed 3-27-02; 8:45 am]

BILLING CODE 3410-DM-P